ENVIRONMENTAL PROTECTION AGENCY

[FRL-9943-81-OEI]

Agency Information Collection Activities OMB Responses

AGENCY: Environmental Protection Agency (EPA).

ACTION: Notice.

SUMMARY: This document announces the Office of Management and Budget (OMB) responses to Agency clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2311.02; Pesticide Program Public Sector Collections (FIFRA Sections 18 & 24 (c)) (Renewal); 40 CFR parts 162 and 166; was approved without change on 10/06/2015; OMB Number 2070-0182; expires on 10/31/2018.

EPA ICR Number 2326.03; Effluent Guidelines and Standards for the Airport Deicing Category (Renewal); 40 CFR part 449; was approved without change on 10/06/2015; OMB Number 2040-0285; expires on 10/31/2018.

EPA ICR Number 1850.07; NESHAP for Primary Copper Smelters (Renewal); 40 CFR part 63, subparts QQQ and A; was approved with change on 10/07/2015; OMB Number 2060-0476; expires on 10/31/2018.

EPA ICR Number 2289.03; National Volatile Organic Compound (VOC) Emission Standards for Aerosol Coatings (Renewal); 40 CFR part 59, subpart E; was approved without change on 10/7/2015; OMB Number 2060-0617; expires on 10/31/2018.

EPA ICR Number 2458.02; Fuel Use Requirements for Great Lakes Steamships (Renewal); 40 CFR part 1043; was approved without change on 10/7/2015; OMB Number 2060-0679; expires on 10/31/2018.

EPA ICR Number 1805.07; NESHAP for Chemical Recovery Combustion Sources at Kraft, Soda, Sulfite, and Stand-Alone Semichemical Pulp Mills (Renewal); 40 CFR part 63, subparts MM and A; was approved without change on 10/7/2015; OMB Number 2060-0377; expires on 10/31/2018.

EPA ICR Number 1432.31; Recordkeeping and Periodic Reporting of the Production, Import, Export, Recycling, Destruction, Transhipment, and Feedstock Use of Ozone-Depleting Substances (Renewal); 40 CFR part 82; was approved without change on 10/9/2015; OMB Number 2060-0170; expires on 10/31/2018.

EPA ICR Number 1773.11; NESHAP for Hazardous Waste Combustors (Renewal); 40 CFR part 63, subpart EEE; 40 CFR parts 63.5, 63.6, 63.7, 63.8, 63.9, 63.1204, 63.1205, 63.1206, 63.1207, 63.1209; was approved without change on 10/13/2015; OMB Number 2050-0171; expires on 10/31/2018.

EPA ICR Number 0959.15; Facility Ground-Water Monitoring Requirements (Renewal); 40 CFR parts 264, 264.98, 264.99, 264.1, 265; was approved without change on 10/13/2015; OMB Number 2050-0033; expires on 10/31/2018.

EPA ICR Number 1710.07; Residential Lead-Based Paint Hazard Disclosure Requirements (Renewal); 40 CFR part 745, 40 CFR part 75, subpart F, and 24 CFR part 35; was approved without change on 10/14/2015; OMB Number 2070-0151; expires on 10/31/2018.

EPA ICR Number 1884.08; Partial Update of the TSCA Sec. 8(b) Inventory Database, Production and Site Reports (Chemical Data Reporting) (Revision); 40 CFR part 711; was approved without change on 10/14/2015; OMB Number 2070-0162; expires on 10/31/2018.

EPA ICR Number 1360.13; Underground Storage Tanks: Technical and Financial Requirements, and State Program Approval Procedures (Renewal); 40 CFR parts 280 and 281; was approved with change on 10/14/2015; OMB Number 2050-0068; expires on 10/31/2018.

EPA ICR Number 1597.11; Requirements and Exemptions for Specific RCRA Wastes (Renewal); 40 CFR part 266, subpart N; 40 CFR parts 273.14-15, 273.8, 260.23, 273.18, 273.34-35, 273.61-62, 273.38-39, 279.10-11, 273.32, 279.42-44, 279.52-55, 279.57, 279.63, and 279.82; was approved without change on 10/19/2015; OMB Number 2050-0145; expires on 10/31/2018.

EPA ICR Number 0820.13; Hazardous Waste Generator Standards (Renewal); 40 CFR parts 265.192, 265.193, 265.196, 265.191, 262.34, 262.40(c), 262.43, 262.44(c), 262.53-57, 262.60, 265.190, 264, 262, and 265; was approved with change on 10/19/2015; OMB Number 2050-0035; expires on 10/31/2018.

EPA ICR Number 2391.03; Federal Implementation Plans to Reduce Interstate Transport of Fine Particulate Matter and Ozone (Renewal); 40 CFR parts 51, 75, 96 and 97; was approved without change on 10/26/2015; OMB Number 2060-0667; expires on 10/31/2018.

EPA ICR Number 1613.05; Data Reporting Requirements for State and Local Vehicle Emission Inspection and Maintenance (I/M) Programs (Renewal); 40 CFR part 51, subpart S; was approved without change on 10/27/2015; OMB Number 2060-0252; expires on 10/31/2018.

Comment Filed

EPA ICR Number 2515.01; Revised Interpretation of Clean Water Act Tribal Provision (Proposed Rule); 40 CFR parts 131.4(c), 131.8, 123.31-34 and 223.60-62; OMB filed comment on 10/06/2015.

Courtney Kerwin,
Acting Director, Collections Strategies Division.

[FR Doc. 2016-06045 Filed 3-16-16; 8:45 am]

BILLING CODE 6560-50-P